DEPARTMENT OF COMMERCE

Foreign-Trade Zones Board [Order No. 1980]

Expanded Production Authority Not Approved; Foreign-Trade Zone 169; ASO, LLC; Subzone 169A; (Textile Fabric Adhesive Bandage Coating and Production); Sarasota, Florida

Pursuant to its authority under the Foreign-Trade Zones Act of June 18, 1934, as amended (19 U.S.C. 81a-81u), the Foreign-Trade Zones Board (the Board) adopts the following Order:

Whereas, ASO, LLC (ASO), operator of Subzone 169A, has requested certain expanded production authority for the coating and production of textile fabric adhesive bandages, within Subzone 169A, at the ASO facility in Sarasota, Florida, (B-24-2013, docketed 03-19-2013).

Whereas, notice inviting public comment has been given in the Federal Register (78 FR 18314, 03-26-2013 (initial application); 79 FR 17133, 03-27-2014 (new evidence); 79 FR 32910, 06-09-2014 (new evidence)) and the application has been processed pursuant to the FTZ Act and the Board's regulations; and,

Whereas, the Board adopts the findings and recommendations of the examiner's report, and finds that the requirements of the FTZ Act and the Board's regulations have not been satisfied (i.e., the applicant has not met the burden of proof to demonstrate that its proposal would result in a net positive economic effect and significant public benefit);

Now, therefore, the Board hereby does not approve the application requesting expanded production authority under zone procedures within Subzone 169A at the facility of ASO, LLC, located in Sarasota, Florida, as described in the application and Federal Register notice.

Signed at Washington, DC, this 31st day of July 2015.
Ronald K. Lorentzen,
Acting Assistant Secretary of Commerce for Enforcement and Compliance, Alternate Chairman, Foreign-Trade Zones Board.

[FR Doc. 2015-19603 Filed 8-7-15; 8:45 am]

BILLING CODE 3510-DS-P